INTERNATIONAL TRADE COMMISSION

[Investigation No. 337-TA-1135]

Certain Strength-Training Systems and Components Thereof Institution of Investigation

AGENCY: U.S. International Trade Commission

ACTION: Notice.

SUMMARY: Notice is hereby given that a complaint was filed with the U.S. International Trade Commission on September 4, 2018, under section 337 of the Tariff Act of 1930, as amended, on behalf of Hoist Fitness Systems, Inc. of Poway, California. A supplement to the Complaint was filed on September 14, 2018. The complaint, as supplemented, alleges violations of section 337 based upon the importation into the United States, the sale for importation, and the sale within the United States after importation of certain strength-training systems and components thereof by reason of infringement of certain claims of U.S. Patent No. 7,549,949 (“the ’949 patent”); U.S. Patent No. 7,563,209 (“the ’209 patent”); U.S. Patent No. 7,594,880 (“the ’880 patent”); U.S. Patent No. 7,654,938 (“the ’938 patent”); and U.S. Patent No. 7,976,440 (“the ’440 patent”). The complaint, as supplemented, further alleges that an industry in the United States exists as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Katherine Hiner, Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on September 28, 2018, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 2, 8, and 23 of the ’949 patent; claims 6 and 21 of the ’209 patent; claim 22 of the ’880 patent; claims 1, 12, and 13 of the ’938 patent; and claims 5, 12, 13, and 20 of the ’440 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “machines with a dynamic user support used to perform chest press, fly or butterfly, abdominal, shoulder press, triceps dip, triceps extension, rowing, lat pulldown, bicep curl, seated dip, chin up, lateral raise, inner and outer thigh, low back, glute, leg extension, leg curl, and/or leg press exercises”;

(3) For the purpose of the investigation so instituted, the following are hereby named as parties upon which this notice of investigation shall be served:

(a) The complainant is: Hoist Fitness Systems, Inc., 11900 Community Road, Poway, CA 92064.

(b) The respondents are the following entities alleged to be in violation of section 337, and are the parties upon which the complaint is to be served:

TuffStuff Fitness International, Inc., 13971 Norton Avenue, Chino, CA 91710.

Shandong Relax Health Industry Co., Lt, No. 6 Tainshan 2 Road, Jimo City, Qingdao, Shandong Province, 266000, China.

(4) For the investigation so instituted, the Chief Administrative Law Judge, U.S. International Trade Commission, shall designate the presiding Administrative Law Judge.

The Office of Unfair Import Investigations will not be named as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 1, 2018.
Lisa Barton,
Secretary to the Commission.

[FR Doc. 2018-21631 Filed 10-3-18; 8:45 am]

BILLING CODE 7020-02-P